DEPARTMENT OF LABOR

Occupational Safety and Health Administration

Preventing Occupational Hearing Loss: Stakeholder Meeting

AGENCY: Occupational Safety and Health Administration (OSHA), Labor.

ACTION: Notice of public meeting.

SUMMARY: OSHA invites interested parties to participate in an informal stakeholder meeting on preventing occupational hearing loss. Every year, between 20,000 and 25,000 workers suffer from preventable hearing loss due to high workplace noise levels. The purpose of this meeting is to provide a forum and gather information on the best practices for noise reduction in the workplace, including a discussion on personal protective equipment, hearing conservation programs and engineering controls. OSHA is holding this stakeholder meeting as part of its commitment to work with stakeholders on approaches to preventing occupational hearing loss.

DATES: The date for the stakeholder meeting is November 03, 2011, from 9 a.m. to 1 p.m. est., in Washington, DC. The deadline for registration to attend or participate in the meeting is October 27, 2011.

ADDRESSES: The meeting will be held in the Francis Perkins Building, U.S. Department of Labor, Room N-4437 A/B/C/D, at 200 Constitution Ave., NW., Washington, DC 20210. The nearest Metro station is Judiciary Square (Red Line). Photo ID is required to enter the building.

Registration to attend or participate in the meeting: To participate in the November 03, 2011 stakeholder meeting, or be a nonparticipating observer, you must register electronically, by phone, or by facsimile by close of business on October 27, 2011.

Electronically: https://www2.ergweb.com/projects/conferences/osha/register-osha-stakeholder.htm.

By Phone: Please call 781-674-7374.

Facsimile: Fax your request to (781) 674-2906. Registrants should label their faxes as: “Attention: OSHA Preventing Occupational Hearing Loss: Stakeholder Meeting.”

When registering please indicate the following: (1) Name, address, phone, fax, and e-mail address; (2) Organization for which you work; and, (3) Organization you will represent (if different).

The meeting will last 4 hours, and be limited to approximately 30 participants. OSHA will do its best to accommodate all persons who wish to participate. OSHA encourages persons and groups having similar interests to consolidate their information and participate through a single representative. Members of the general public may observe, but not participate in, the meetings as space permits. OSHA staff will be present to take part in the discussions.

Eastern Research Group (ERG), Inc., (110 Hartwell Avenue, Lexington, MA 02421), will manage logistics for the meetings, provide a facilitator, and compile notes summarizing the discussion. These notes will not identify individual speakers. The summary notes will be available for review at http://www.osha.gov.

OSHA will confirm participants to ensure a fair representation of interests and a wide range of viewpoints. Nonparticipating observers who do not register for the meeting will be accommodated as space permits. Electronic copies of this Federal Register notice, as well as news releases and other relevant documents, are available on the OSHA Web page at: http://www.osha.gov.

FOR FURTHER INFORMATION CONTACT: Frank Meilinger, Director, OSHA Office of Communications, Room N-3647, U.S. Department of Labor, 200 Constitution Avenue, NW., Washington, DC 20210; telephone: (202) 693-1999; e-mail: Meilinger.Francis2@dol.gov.

SUPPLEMENTARY INFORMATION:

I. Background

Noise-related hearing loss has been listed as one of the most prevalent occupational health concerns in the United States for more than 25 years. Every year between 20,000 and 25,000 workers suffer from preventable hearing loss due to high workplace noise levels. The Bureau of Labor Statistics has reported that nearly 125,000 workers have suffered significant, permanent hearing loss since 2004. Neither surgery nor a hearing aid can help correct this type of hearing loss.

On October 19, 2010, the U.S. Department of Labor's Occupational Safety and Health Administration (OSHA) published in the Federal Register (FR) a proposed interpretation titled “Interpretation of OSHA's Provisions for Feasible Administrative or Engineering Controls of Occupational Noise” (http://www.edocket.access.gpo.gov/2010/2010-26135.htm). The proposed interpretation would have clarified the term “feasible administrative or engineering controls” as used in OSHA's noise standard. This FR notice requested comments on the proposal to clarify that the word “feasible” has its ordinary, plain meaning of “capable of being done.” Comments were due December 20, 2010; however, in response to several requests from the regulated community, OSHA extended the comment period by 90 days to March 21, 2010. Over 90 comments were received in response to this proposed interpretation. OSHA stated that it would review all of the comments before making its final decision.

The proposed interpretation was subsequently withdrawn on January 19, 2011, (http://www.osha.gov/pls/oshaweb/owadisp.show_document?p_table=NEWS_RELEASES&p_id=19119). OSHA decided to suspend work on the proposal in order to conduct an education, outreach and consultation initiative on preventing work-related hearing loss. As part of the agency's initiative, the agency committed to holding a stakeholder meeting on preventing occupational hearing loss to elicit the views of employers, workers, and noise control and public health professionals. The meeting announced in this notice fulfills this commitment.

II. Stakeholder Meeting

The stakeholder meeting announced in this notice will be conducted as a group discussion on views, concerns, and issues surrounding the hazards of occupational exposure to noise and how best to control them. To facilitate as much group interaction as possible, formal presentations by stakeholders will not be permitted. The stakeholder meeting discussions will center on preventing occupational hearing loss and will include such subjects as the use of personal protective equipment, effective hearing conservation programs and the use of feasible engineering controls to control noise exposure in the workplace. The discussions will focus on topics such as noise control challenges and the best practices in construction, general industry and other sectors where noise is a hazard. The specific issues to be discussed will include the following:

• What are the best practices regarding hearing conservation programs?

• What are the best practices for, as well as concerns with, using personal protective equipment for noise control?

• What are the best practices for using feasible engineering controls?

• What are examples of companies that have effective noise control programs and what are the key elements of their programs?

Authority and Signature

This document was prepared under the direction of Dr. David Michaels, Assistant Secretary of Labor for Occupational Safety and Health.

Signed at Washington, DC, on October 3, 2011.
David Michaels,
Assistant Secretary of Labor for Occupational Safety and Health.

[FR Doc. 2011-25904 Filed 10-5-11; 8:45 am]

BILLING CODE 4510-29-P